BARRY GOLDWATER SCHOLARSHIP AND EXCELLENCE IN EDUCATION FOUNDATION

Sunshine Act Notice

Time and Date: 1 p.m., Wednesday, March 23, 2002.

Place: Goldwater Scholarship Foundation, 6225 Brandon Avenue, Suite 315, Springfield, VA 22150-2519.

Status: The meeting will be open to the public.

Matters To Be Considered:

1. Review and approval of the minutes of the March 18, 2004 Board of Trustees meeting.

2. Report on financial status of the Foundation fund.

A. Review of investment policy and current portfolio.

3. Report on results of Scholarship Review Panel.

A. Discussion and consideration of scholarship candidates.

B. Selection of Goldwater Scholars.

4. Other Business brought before the Board of Trustees.

Contact Person For More Information: Gerald J. Smith, President, Telephone: (703) 756-6012.

Gerald J. Smith,
President.

[FR Doc. 05-5881 Filed 3-21-05; 8:45 am]

BILLING CODE 4738-91-M